DEPARTMENT OF TRANSPORTATION

Federal Aviation Administration

14 CFR Part 71

[Docket No. FAA-2003-15080; Airspace Docket No. 03-ACE-48]

Modification of Class E Airspace; Sibley, IA

AGENCY: Federal Aviation Administration (FAA), DOT.

ACTION: Direct final rule; request for comments; correction.

SUMMARY: This action corrects a direct final rule; request for comments that was published in the Federal Register on Friday, May 23, 2003, (68 FR 28126) [FR Doc. 03-13040]. It corrects an error in the dimension and legal description of the Sibley, IA Class E airspace area.

DATES: This direct final rule is effective on 0901 UTC, September 4, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register Document 03-13040, published on Friday, May 23, 2003, (68 FR 28126) modified Class E airspace at Sibley, IA. The modification was to correct the Sibley Municipal Airport, IA airport reference point used in the legal description of the Sibley, IA Class E airspace area and to bring the airspace area into compliance with FAA Order 7400.2E, Procedures for handling Airspace Matters. The information published, however, did not correct a previous error in the volume of Class E airspace necessary at Sibley, IA and did not bring the airspace area into compliance with the order. This action rectifies the oversight and does bring the Sibley, IA Class E airspace into compliance with FAA Order 7400.2E.

Accordingly, pursuant to the authority delegated to me, the Sibley, IA Class E airspace, as published in the Federal Register on Friday May 23, 2003, (68 FR 28126), [FR Doc. 03-13040] is corrected as follows:

§ 71.1 [Corrected]

On page 28127, Column 1, second paragraph, sixth and ninth lines after heading “ACE IA E5 Sibley, IA,” change “6-mile radius” to read “6.3-mile radius.”

Issued in Kansas City, MO, on July 1, 2003.
Herman J. Lyons, Jr.,
Manager, Air Traffic Division, Central Region.

[FR Doc. 03-17762 Filed 7-14-03; 8:45 am]

BILLING CODE 4910-13-M